COMMITTEE FOR PURCHASE FROM PEOPLE WHO ARE BLIND OR SEVERELY DISABLED

Procurement List; Proposed addition and deletions

AGENCY: Committee for Purchase from People Who Are Blind or Severely Disabled.

ACTION: Proposed addition to and deletions from Procurement List.

SUMMARY: The Committee is proposing to add to the Procurement List a product to be furnished by nonprofit agencies employing persons who are blind or have other severe disabilities, and to delete a product and services previously furnished by such agencies.

Comments Must be Received on or Before: November 21, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a) (2) and 41 CFR 51-2.3. Its purpose is to provide interested persons an opportunity to submit comments on the proposed actions.

Addition

If the Committee approves the proposed addition, the entities of the Federal Government identified in this notice for each product will be required to procure the product listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product to the Government.

2. If approved, the action will result in authorizing small entities to furnish the products to the Government.

3. There are no known regulatory alternatives which would accomplish the objectives of the Javits-Wagner-O'Day Act (41 U.S.C. 46-48c) in connection with the product proposed for addition to the Procurement List. Comments on this certification are invited. Commenters should identify the statement(s) underlying the certification on which they are providing additional information.

End of Certification

The following product is proposed for addition to Procurement List for production by the nonprofit agencies listed:

Product

Product/NSN: Cup, Drinking, Styrofoam, M.R. 537.

NPA: The Oklahoma League for the Blind, Oklahoma City, Oklahoma.

Contract Activity: Defense Commissary Agency (DeCA), Fort Lee, Virginia.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the product and services to the Government.

3. There are no known regulatory alternatives which would accomplish the objectives of the Javits-Wagner-O'Day Act (41 U.S.C. 46-48c) in connection with the product and services proposed for deletion from the Procurement List.

End of Certification

The following product and services are proposed for deletion from the Procurement List:

Product

Product/NSN: Paper, Looseleaf, Blank, 7530-00-286-5782.

NPA: Alabama Industries for the Blind, Talladega, Alabama.

Contract Activity: Office Supplies & Paper Products Acquisition Center, New York, New York.

Services

Service Type/Location: Janitorial/Custodial, U.S. Federal Building and Post Office, 104 West Magnolia, Bellingham, Washington.

NPA: Cascade Christian Services, Bellingham, Washington.

Contract Activity: General Services Administration, Northwest Region.

Service Type/Location: Janitorial/Custodial, U.S. Post Office and Courthouse, Vicksburg, Mississippi.

NPA: Warren County Association for Retarded Citizens, Inc., Vicksburg, Mississippi.

Contract Activity: General Services Administration, Southeast Sunbelt Region.

Sheryl D. Kennerly,
Director, Information Management.

[FR Doc. 04-23740 Filed 10-21-04; 8:45 am]

BILLING CODE 6353-01-P